FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 27, 2010.

A. Federal Reserve Bank of Chicago (Colette A. Fried, Assistant Vice President) 230 South LaSalle Street, Chicago, Illinois 60690-1414:

1. John E. Helgerson, Ottumwa, Iowa; to acquire additional shares of Hedrick Bancorp, Inc., Hedrick, Iowa, and thereby indirectly acquire additional voting shares of Hedrick Savings Bank, Ottumwa, Iowa.

Board of Governors of the Federal Reserve System, January 7, 2010.
Robert deV. Frierson,
Deputy Secretary of the Board.

[FR Doc. 2010-363 Filed 1-11-10; 8:45 am]

BILLING CODE 6210-01-S